DEPARTMENT OF THE INTERIOR

Minerals Management Service

30 CFR Parts 203, 250, 251, 253, 254, and 256

Outer Continental Shelf Regulations

AGENCY: Minerals Management Service (MMS), Interior.

ACTION: Technical amendments.

SUMMARY: This document makes minor technical changes to regulations that were published in various Federal Register documents and are codified in the Code of Federal Regulations. These changes will correct the name of form MMS-126; correct a citation in 30 CFR 250, subpart N; and correct the instructions in 30 CFR parts 203, 251, 253, 254, and 256 for commenting on information collection burdens.

EFFECTIVE DATE: January 19, 2000.

FOR FURTHER INFORMATION CONTACT: Alexis London, (703) 787-1600.

SUPPLEMENTARY INFORMATION:

Background

These technical amendments affect all offshore oil, gas, and sulphur operators and lessees. The following are explanations of the corrections.

(1) On February 5, 1997 (62 FR 5331), we published a final rule revising the 30 CFR 250, subpart N, regulations on OCS civil penalties (subsequently redesignated at 63 FR 29479 on May 29, 1998). The final rule contained a citation error in § 250.1409(d)(3). We are correcting the citation.

(2) In September 1999, under the requirements of the Paperwork Reduction Act of 1995 (PRA), the Office of Management and Budget (OMB) reapproved the information collected on form MMS-126. When we submitted the form to OMB for approval, we made no changes to the information collected, but we did shorten the official title of the form. We are correcting the regulations in 30 CFR 250, subpart K, to reflect the change in the title of this form.

(3) Under the PRA, the OMB must approve the information collection burden of all our requirements. Each part of our regulations has a section that provides the OMB control numbers of the approved information collection burdens and other required information. These sections provide instructions on how the public may comment on the burdens. The regulations currently indicate that comments may be submitted directly to the OMB and to MMS. The OMB has now determined that comments should be made only to the agency and not directly to OMB. Agencies are required to address any comments received in subsequent submissions to OMB for reapproval of the information collection burdens. We are correcting our regulations to reflect this change in comment procedures. In addition, we are bringing the section on authority for collecting information in part 256 up-to-date to reflect the 1995 amendments to the PRA and to make the part 256 section consistent with the corresponding sections in the other parts of our regulations.

Need for Correction

As published, the final regulations contain errors which may prove to be misleading or have sections which are no longer technically correct and are in need of clarification.

List of Subjects

30 CFR Part 203

Continental shelf, Government contracts, Indians—lands, Mineral royalties, Oil and gas exploration, Public lands—mineral resources, Reporting and recordkeeping requirements, Sulphur.

30 CFR Part 250

Continental shelf, Environmental impact statements, Environmental protection, Government contracts, Investigations, Mineral royalties, Oil and gas development and production, Oil and gas exploration, Oil and gas reserves, Penalties, Pipelines, Public lands—mineral resources, Public lands—rights-of-way, Reporting and recordkeeping requirements, Sulphur development and production, Sulphur exploration, Surety bonds.

30 CFR Part 251

Continental shelf, Freedom of information, Oil and gas exploration, Public lands—mineral resources, Public lands—rights-of-way, Reporting and recordkeeping requirements, Research.

30 CFR Part 253

Continental shelf, Environmental protection, Insurance, Oil and gas exploration, Oil pollution, Penalties, Pipelines, Public lands—mineral resources, Public lands—rights-of-way, Reporting and recordkeeping requirements, Surety bonds.

30 CFR Part 254

Continental shelf, Environmental protection, Oil and gas development and production, Oil and gas exploration, Pipelines, Public lands—mineral resources, Public lands—rights-of-way, Reporting and recordkeeping requirements.

30 CFR Part 256

Administrative practice and procedure, Continental shelf, Environmental protection, Government contracts, Mineral royalties, Oil and gas exploration, Pipelines, Public lands—mineral resources, Public lands—rights-of-way, Reporting and recordkeeping requirements, Surety bonds.

Accordingly, 30 CFR parts 203, 250, 251, 253, 254, and 256 are amended by making the following technical amendments:

PART 203—RELIEF OR REDUCTION IN ROYALTY RATES

1. The authority citation for part 203 continues to read as follows:

Authority: 25 U.S.C. 396 et seq., 25 U.S.C. 396a et seq., 25 U.S.C. 101 et seq., 30 U.S.C. 181 et seq., 30 U.S.C. 351 et seq., 30 U.S.C. 1001 et seq., 30 U.S.C. 1701 et seq., 31 U.S.C. 9701 et seq., 43 U.S.C. 1301 et seq., 43 U.S.C. 1331 et seq., and 43 U.S.C. 1801 et seq.

2. In § 203.82, paragraph (d) is revised to read as follows:

§ 203.82 What is MMS's authority to collect this information?

* * * * *

(d) Send comments regarding any aspect of the collection of information under this part, including suggestions for reducing the burden, to the Information Collection Clearance Officer, Minerals Management Service, Mail Stop 4230, 1849 C Street, NW, Washington, DC 20240.

PART 250—OIL AND GAS AND SULPHUR OPERATIONS IN THE OUTER CONTINENTAL SHELF

3. The authority citation for part 250 continues to read as follows:

Authority: 43 U.S.C. 1331 et seq.

4. In § 250.1102, the second sentence of paragraph (b)(2) is corrected to read as follows:

§ 250.1102 Oil and gas production rates.

* * * * *

(b) * * *

(2) * * * Within 15 days after the end of the test period, the lessee must submit a proposed MPR with well potential test for the individual well completion on Form MMS-126, Well Potential Test Report. * * *

§ 250.1409 [Amended]

5. In § 250.1409(d)(3), the citation “43 CFR part 62, subpart D” is corrected to read 43 CFR part 12, subpart D”.

PART 251—GEOLOGICAL AND GEOPHYSICAL (G&G) EXPLORATIONS OF THE OUTER CONTINENTAL SHELF

6. The authority citation for part 251 continues to read as follows:

Authority: 43 U.S.C. 1331 et seq.

7. In § 251.15, paragraph (e) is revised to read as follows:

§ 251.15 Authority for information collection.

* * * * *

(e) Send comments regarding any aspect of the collection of information under this part, including suggestions for reducing the burden, to the Information Collection Clearance Officer, Minerals Management Service, Mail Stop 4230, 1849 C Street, NW, Washington, DC 20240.

PART 253—OIL SPILL FINANCIAL RESPONSIBILITY FOR OFFSHORE FACILITIES

8. The authority citation for part 253 continues to read as follows:

Authority: 33 U.S.C. 2701 et seq.

9. In § 253.5, paragraph (d) is revised to read as follows:

§ 253.5 What is the authority for collecting Oil Spill Financial Responsibility (OSFR) information?

* * * * *

(d) Send comments regarding any aspect of the collection of information under this part, including suggestions for reducing the burden, to the Information Collection Clearance Officer, Minerals Management Service, Mail Stop 4230, 1849 C Street, NW, Washington, DC 20240.

PART 254—OIL SPILL RESPONSE REQUIREMENTS FOR FACILITIES LOCATED SEAWARD OF THE COAST LINE

10. The authority citation for part 254 continues to read as follows:

Authority: 33 U.S.C. 1321 et seq.

11. In § 254.9, paragraph (d) is revised to read as follows:

§ 254.9 Authority for information collection.

* * * * *

(d) Send comments regarding any aspect of the collection of information under this part, including suggestions for reducing the burden, to the Information Collection Clearance Officer, Minerals Management Service, Mail Stop 4230, 1849 C Street, NW, Washington, DC 20240.

PART 256—LEASING OF SULPHUR OR OIL AND GAS IN THE OUTER CONTINENTAL SHELF

12. The authority citation for part 256 continues to read as follows:

Authority: 42 U.S.C. 6213, 43 U.S.C. 1331 et seq.

13. Section 256.0 is revised to read as follows:

§ 256.0 Authority for information collection.

(a) The Office of Management and Budget (OMB) has approved the information collection requirements in this part under 44 U.S.C. 3501 et seq. OMB assigned the control number 1010-0006. The title of this information collection is “30 CFR Part 256, Leasing of Sulphur or Oil and Gas in the Outer Continental Shelf.”

(b) MMS collects this information to determine if the applicant filing for a lease on the Outer Continental Shelf is qualified to hold such a lease. Response is required to obtain a benefit according to 43 U.S.C. 1331 et seq. MMS will protect proprietary information collected according to section 26 of the OCS Lands Act and 30 CFR 256.10.

(c) An agency may not conduct or sponsor, and a person is not required to respond to a collection of information unless it displays a currently valid OMB control number.

(d) Send comments regarding any aspect of the collection of information under this part, including suggestions for reducing the burden, to the Information Collection Clearance Officer, Minerals Management Service, Mail Stop 4230, 1849 C Street, NW, Washington, DC 20240.

Dated: January 6, 2000.
E. P. Danenberger,
Chief, Engineering and Operations Division.

[FR Doc. 00-1200 Filed 1-18-00; 8:45 am]

BILLING CODE 4310-MR-P